DEPARTMENT OF TRANSPORTATION

Federal Aviation Administration

[Summary Notice No. PE-2020-62]

Petition for Exemption; Summary of Petition Received; Delta Engineering

AGENCY: Federal Aviation Administration (FAA), DOT.

ACTION: Notice of petition for exemption received.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before August 19, 2020.

ADDRESSES: Send comments identified by docket number FAA-2020-0528 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Deana Stedman, AIR-673, Federal Aviation Administration, 2200 South 216th Street, Des Moines, WA 98198, phone and fax 206-231-3187, email deana.stedman@faa.gov.

This notice is published pursuant to 14 CFR 11.85.

Issued in Des Moines, Washington, on July 27, 2020.
James E. Wilborn,
Acting Manager, Transport Standards Branch.

Petition for Exemption

Docket No.: FAA-2020-0528.

Petitioner: Delta Engineering.

Section(s) of 14 CFR Affected: §§ 25.855, 25.857, and 25.858.

Description of Relief Sought: Delta Engineering is seeking relief from certain fire protection requirements in order to obtain supplemental type certificate approval of a type design change for multiple airplane models from multiple airplane manufacturers. The type design change would allow the airplane operators to remove passenger seats to transport cargo, subject to the FAA's conditions, on the floor of the main deck of transport category airplanes without revenue passengers onboard. COVID-19 has dramatically reduced the demand for commercial air travel. Due to this extreme reduction in demand, passenger carriers now have the capacity to carry cargo, including critical medical cargo, in-cabin. The relief that would be provided by this exemption would also support the need to replace the cargo capacity provided on airplanes normally flown by passenger carriers.

[FR Doc. 2020-16545 Filed 7-29-20; 8:45 am]

BILLING CODE 4910-13-P